DEPARTMENT OF LABOR

Occupational Safety and Health Administration

[Docket No. ICR-1218-0064(2001)]

OSHA-7 Form (“Notice of Alleged Safety and Health Hazards”); Extension of the Office of Management of Budget's (OMB) Approval of Information-Collection (Paperwork) Requirements

AGENCY: Occupational Safety and Health Administration (OSHA), Labor.

ACTION: Notice of an opportunity for public comment.

SUMMARY: OSHA solicits comments concerning its request to increase the existing burden-hour estimates for, and to extend OMB approval of, the information collection specified in the OSHA-7 Form.¹ Under paragraphs (a) and (c) of § 1903.11 (“Complaints by employees”), employees and their representatives must provide the Agency with specific, written information if they believe that OSHA-regulated hazards are present in their workplace; they may use the OSHA-7 Form for this purpose. Based on this information, the Agency determines whether or not reasonable grounds exist to conduct an inspection of the workplace; it also uses the information to assess the severity of the alleged hazards and the need to expedite the inspection. In addition, the form provides an employer with notice of the complaint, and may serve as the basis for obtaining a search warrant if an employer denies OSHA access to the workplace.

¹ Based on its assessment of the OSHA-7 Form, the Agency estimates that the total burden hours increased compared to its previous burden-hour estimate. Under this Notice, OSHA is not proposing to revise the existing form or the regulation (§ 1903.11) that specifies the information-collection requirements addressed by the form.

DATES: Submit written comments on or before October 2, 2001.

ADDRESSES: Submit written comments to the Docket Office, Docket No. ICR-1218-0064(2001), OSHA, U.S. Department of Labor, Room N-2625, 200 Constitution Avenue, NW., Washington, DC 20210; telephone (202) 693-2350. Commenters may transmit written comments of 10 pages or less in length by facsimile to (202) 693-1648.

FOR FURTHER INFORMATION CONTACT: Thomas M. Galassi, Directorate of Compliance Programs, OSHA, U.S. Department of Labor, Room N-3603, 200 Constitution Avenue, NW., Washington, DC 20210; telephone (202) 693-2100. A copy of the Agency's Information-Collection Request (ICR) supporting the need for the information collections specified in this notice is available for inspection and copying in the Docket Office or by requesting a copy from Thomas M. Galassi; for electronic copies of the ICR, contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct. The Occupational Safety and Health Act of 1970 authorizes information collection by OSHA as necessary or appropriate for enforcement of the act or for developing information regarding the causes and prevention of occupational injuries, illnesses, and accidents. (29 U.S.C. 657.)

Under paragraphs (a) and (c) of § 1903.11 (“Complaints by employees”), employees and their representatives may notify the OSHA area director or an OSHA compliance officer of safety and health hazards regulated by the Agency that they believe exist in their workplaces. These provisions state further that this notification must be in writing and “shall set forth with reasonable particularity the grounds for the notice, and shall be signed by the employee or representative of the employees.”

Along with providing specific hazard information to the Agency, paragraph (a) permits employees/employee representatives to request an inspection of the workplace. Paragraph (c) also addresses situations in which employees/employee representatives may provide the information directly to the OSHA compliance officer during an inspection. An employer's former employees may also submit complaints to the Agency; these complaints account for 30-40% of all complaints received by the Agency. Subsequent discussions in this Supporting Statement will refer to current and former employees as “complainants.”

To address the requirements of paragraphs (a) and (c), especially the requirement that the information be in writing, the Agency developed the OSHA-7 Form; this form standardized and simplified the hazard-reporting process. For paragraph (a), they may complete an OSHA-7 Form obtained from the Agency's website and then send it to OSHA on-line, or deliver a hardcopy of the form to the OSHA area office by mail or facsimile, or by hand. They may also write a letter containing the information and hand-deliver it to the area office, or sent it by mail or facsimile. In addition, they may provide the information orally to the OSHA area office or another party (e.g., a Federal safety and health committee for Federal employees), in which case the area office or other party completes the hardcopy version of the form. for the typical situation addressed by paragraph (c), an employee/employee representative informs an OSHA compliance officer orally of the alleged hazard during an inspection, and the compliance officer then completes the hardcopy version of the OSHA-7 Form; occasionally, the employee/employee representative provides the compliance officer with the information on the hardcopy version of the OSHA-7 Form.

The information in the hardcopy version of the OSHA-7 Form includes information about the employer and alleged hazards, including: The establishment's name, mailing address, and telephone and facsimile numbers; the site's address and telephone and facsimile numbers; the name and telephone number of the management official; the type of business; a description, and the specific location, of the hazards, including the approximate number of employees exposed or threatened by the hazards; and whether or not the employee/employee representative informed the employer or another government agency about the hazards (and the name of the agency if informed).

Additional information on the hardcopy version of the form addresses the complainant, including: Whether or not the complainant wants OSHA to reveal their name to the employer; whether the complainant is an employee or an employee representative, or, for information provided orally, a member of a Federal safety and health committee or another party (with space to specify the party); the complainant's name, telephone number, and address; and the complainant's signature attesting that they believe a violation of an OSHA standard exists at the named establishment; and the date of the signature. An employee representative must also provide the name of the organization they represent and their title.

The information contained in the on-line version of the OSHA-7 Form is similar to the hardcopy version. However, the on-line version requests the establishment's county location and the complainant's e-mail address, and does not ask for the establishment's and site's telephone and facsimile numbers and the complainant's signature and signature date.

The Agency uses the information collected on the OSHA-7 Form to determine whether or not reasonable grounds exist to conduct an inspection of the workplace. The description of the hazards, including the number of exposed employees, allows the Agency to assess the severity of the hazards and the need to expedite the inspection. The completed form also provides an employer with notice of the complaint and may serve as the basis for obtaining a search warrant if an employer denies the Agency access to the workplace.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collection; and

• Ways to minimize the burden; for example, by using automated or other technological information-collection and -transmission techniques.

III. Proposed Actions

OSHA is requesting an increase in the existing burden-hour estimate for, as well as an extension of OMB approval of, the OSHA-7 Form. Accordingly, the Agency is asking to increase the current total burden-hour estimate from 8,155 hours to 14,819 hours, an increase of 6,664 hours. This increase largely occurred because the number of complaints received each year by OSHA increased from 28,713 to 55,130. The Agency will summarize the comments submitted in response to this notice, and will include this summary in its request to OMB to extend its approval of these information-collection requirements.

Type of Review: Extension of currently approved information-collection requirements.

Title: OSHA-7 Form (“Notice of Alleged Safety and Health Hazards”).

OMB Number: 1218-0064 (2001).

Affected Public: Individuals or households.

Number of Respondents: 55,130.

Frequency of Response: On occasion.

Average Time per Response: Varies from 15 minutes (.25 hours) to communicate the required information orally to the Agency to 25 minutes (.42 hour) to provide the information in writing and send it to OSHA.

Estimated Total Burden Hours: 14,819.

Estimated Cost (Operation and Maintenance): $882.

IV. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

Signed at Washington, DC on July 31, 2001.
R. Davis Layne,
Acting Assistant Secretary of Labor.

[FR Doc. 01-19546 Filed 8-2-01; 8:45 am]

BILLING CODE 4510-26-M